DEPARTMENT OF LABOR

Employment and Training Administration

[TA-W-53,629]

Twitchell Corp., Dothan, AL; Notice of Termination of Investigation

Pursuant to section 221 of the Trade Act of 1974, as amended, an investigation was initiated on November 25, 2003 in response to a worker petition filed by a company official on behalf of workers at Twitchell Corporation, Dothan, Alabama.

The petitioner has requested that the petition be withdrawn. Consequently, the investigation has been terminated.

Signed at Washington, DC this 10th day of December, 2003.
Linda G. Poole,
Certifying Officer, Division of Trade Adjustment Assistance.

[FR Doc. 03-31463 Filed 12-19-03; 8:45 am]

BILLING CODE 4510-30-P